FEDERAL RETIREMENT THRIFT INVESTMENT BOARD

Sunshine Act; Notice of Meeting

Agenda

Federal Retirement Thrift Investment Joint Board Member/ETAC Meeting, 77 K Street NE, 10th Floor, Washington, DC 20002, May 30, 2018, 8:30 a.m. (In-Person).

Open Session

1. Approval of the Minutes of the April 23, 2018 Board Member Meeting

2. Approval of the Minutes of the November 8, 2017 ETAC Meeting

3. Monthly Reports

(a) Participant Activity Report

(b) Investment Policy

(c) Legislative Report

4. Quarterly Reports

(d) Metrics

(e) Project Activity

5. IT Update

6. Withdrawals Project Update

7. Office of Communications and Education Annual Report

Closed Session

Information covered under 5 U.S.C. 552b (c)(9)(B).

CONTACT PERSON FOR MORE INFORMATION: Kimberly Weaver, Director, Office of External Affairs, (202) 942-1640.

Dated: May 21, 2018.
Dharmesh Vashee,
Deputy General Counsel, Federal Retirement Thrift Investment Board.

[FR Doc. 2018-11206 Filed 5-21-18; 4:15 pm]

BILLING CODE 6760-01-P